ENVIRONMENTAL PROTECTION AGENCY

40 CFR Part 300

[EPA-HQ-SFUND-1989-0011; FRL-10000-36-Region 3]

National Oil and Hazardous Substances Pollution Contingency Plan; National Priorities List: Partial Deletion of the Novak Sanitary Landfill Superfund Site

AGENCY: Environmental Protection Agency (EPA).

ACTION: Final rule.

SUMMARY: The Environmental Protection Agency (EPA) Region 3 announces the partial deletion of the Novak Sanitary Landfill Superfund Site (Site) located in South Whitehall Township, Pennsylvania, from the National Priorities List (NPL). The NPL, promulgated pursuant to section 105 of the Comprehensive Environmental Response, Compensation, and Liability Act (CERCLA) of 1980, as amended, is an appendix of the National Oil and Hazardous Substances Pollution Contingency Plan (NCP). The EPA and the Commonwealth of Pennsylvania, through the Pennsylvania Department of Environmental Protection (PADEP), have determined that all appropriate response actions to address the groundwater portion of the Site, other than monitoring, operations and maintenance, and Five-Year Reviews (FYRs), have been completed. However, this deletion does not preclude future actions under Superfund. This partial deletion pertains only to the groundwater portion of the Site. The landfill and landfill gas components of the Site will remain on the NPL and are not being considered for deletion as part of this action.

DATES: This action is effective September 25, 2019.

ADDRESSES: Docket: EPA has established a docket for this action under Docket Identification No. EPA-HQ-SFUND-1989-0011. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories. Locations, contacts, phone numbers and viewing hours are:

USEPA Region III Administrative Records Room, 1650 Arch Street—6th Floor, Philadelphia, Pennsylvania 19103-2029, 215-814-3157. Business Hours: Monday through Friday, 8:00 a.m.-4:30 p.m.; by appointment only.

Local Repository: Parkland Community Library, 4422 Walbert Avenue, Allentown, Pennsylvania 18104, 610-398-1361. Business Hours: Monday through Thursday 9 a.m.-9 p.m.; Friday 9 a.m.-6 p.m.; Saturday 9 a.m.-1 p.m.; closed Sunday.

FOR FURTHER INFORMATION CONTACT: Rombel Arquines, Remedial Project Manager, U.S. Environmental Protection Agency, Region III, (3SD21), 1650 Arch Street, Philadelphia, PA 19103, 215-814-3182, email arquines.rombel@epa.gov.

SUPPLEMENTARY INFORMATION: The potion of the site to be deleted from the NPL is the groundwater of the Novak Sanitary Landfill Superfund Site, South Whitehall Township, Lehigh County, Pennsylvania. A Notice of Intent for Partial Deletion for this Site was published in the Federal Register (84 FR 38905) on August 8, 2019.

The closing date for comments on the Notice of Intent for Partial Deletion was September 9, 2019. No public comments were received.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: September 17, 2019.
Cosmo Servidio,
Regional Administrator, Region III.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by revising the entry for “PA, Novak Sanitary Landfill” to read as follows:

Appendix B to Part 300—National Priorities List

Table 1—General Superfund Section
State | Site name | City/county | Notes ᵃ
* * * * * * *
PA | Novak Sanitary Landfill | South Whitehall Township | P
* * * * * * *
ᵃ = Based on issuance of health advisory by Agency for Toxic Substances and Disease Registry (if scored, HRS score need not be greater than or equal to 28.50).
* * * * * * *
P = Sites with partial deletion(s).

* * * * *

[FR Doc. 2019-20681 Filed 9-24-19; 8:45 am]

BILLING CODE 6560-50-P